DEPARTMENT OF COMMERCE

National Oceanic and Atmospheric Administration

Marine Protected Areas Federal Advisory Committee, Public Meeting

AGENCY: National Ocean Service, NOAA, Department of Commerce.

ACTION: Notice of open meeting.

SUMMARY: Notice is hereby given of a meeting of the Marine Protected Areas Federal Advisory Committee (Committee) in Washington, DC.

DATES: The meeting will be held Tuesday, April 22, 2008 from 8:30 a.m. to 5 p.m., Wednesday, April 23, 2008, from 8 a.m. to 3 p.m., and Thursday, April 24, 2008, from 8 a.m. to 4:30 p.m. These times and the agenda topics described below are subject to change. Refer to the web page listed below for the most-up-to-date meeting agenda.

ADDRESSES: The meeting will be held at The Hilton Hotel, 8727 Colesville Road, Silver Spring, MD 20910.

FOR FURTHER INFORMATION CONTACT: Lauren Wenzel, Designated Federal Officer, MPA FAC, National Marine Protected Areas Center, 1305 East West Highway, Silver Spring, Maryland 20910. (Phone 301-713-3100 x136, Fax: 301-713-3110); e-mail: lauren.wenzel@noaa.gov; or visit the National MPA Center Web site at http://www.mpa.gov).

SUPPLEMENTARY INFORMATION: The Committee, composed of external, knowledgeable representatives of stakeholder groups, was established by the Department of Commerce (DOC) to provide advice to the Secretaries of Commerce and the Interior on implementation of Section 4 of Executive Order 13158 on MPAs. The meeting will be open to public participation from 4:15 p.m. to 5 p.m. on Tuesday, April 22, 2008, and from 8:05 a.m. to 9 a.m. on Thursday, April 24, 2008. In general, each individual group will be limited to a total time of five (5) minutes. If members of the public wish to submit written statements, they should be submitted to the Designated Federal Official by April 18, 2008.

Matters to be Considered: The Committee will be receiving a new charge from the Department of Commerce and organized members into Subcommittees to begin addressing this charge. The Committee also will be discussing the revised draft MPA Framework, and developing and finalizing recommendations related to enforcement and compliance. The Agenda is subject to change, and the latest version will be posted at http://www.mpa.gov.

Dated: March 20, 2008.
David M. Kennedy,
Director, Office of Ocean and Coastal Resource Management.

[FR Doc. E8-6703 Filed 4-1-08; 8:45 am]

BILLING CODE 3510-08-M